DEPARTMENT OF TRANSPORTATION

Maritime Administration

[Docket No. MARAD-2020-0154]

Request for Comments of a Previously Approved Information Collection: Automated Mutual Assistance Vessel Rescue System

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on August 27, 2020.

DATES: Comments must be submitted on or before December 16, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mark O'Malley, 202-366-9347, Division of Sealift Operations and Emergency Response, Maritime Administration, U.S. Department of Transportation, 1200 New Jersey Avenue SE, Washington, DC 20590.

SUPPLEMENTARY INFORMATION:

Title: Automated Mutual Assistance Vessel Rescue System.

OMB Control Number: 2133-0025.

Type of Request: Renewal of a Previously Approved Information Collection.

Background: This collection of information will be used to gather information regarding the location of U.S.-flag vessels and certain other U.S. citizen-owned vessels for the purpose of search and rescue in the saving of lives at sea and for the marshalling of ships for national defense and safety purposes. The collection of information is necessary for maintaining a current plot of U.S.-flag and U.S.-owned vessels.

Respondents: U.S.-flag and U.S. citizen-owned vessels.

Affected Public: Business or other for profit.

Estimated Number of Respondents: 171.

Estimated Total Number of Responses: 31,293 (183 per Respondents).

Frequency of Collection: Annually.

Estimated Hours per Respondent: .07.

Total Estimated Number of Annual Burden Hours: 2191.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

Dated: November 10, 2020.
By Order of the Maritime Administrator.
T. Mitchell Hudson, Jr.,
Secretary, Maritime Administration.

[FR Doc. 2020-25210 Filed 11-13-20; 8:45 am]

BILLING CODE 4910-81-P